DEPARTMENT OF HEALTH AND HUMAN SERVICES

Health Resources and Service Administration

Advisory Committee on Training in Primary Care Medicine and Dentistry; Notice of Meeting

In accordance with section 10(a)(2) of the Federal Advisory Committee Act (Pub. L. 92-463), notice is hereby given of the following meeting:

Name: Advisory Committee on Training in Primary Care Medicine and Dentistry (ACTPCMD).

Date and Time: August 29, 2013, 9:00 a.m.—5:00 p.m. (Eastern Standard Time).

Place: Webinar Format.

Status: The meeting will be open to the public.

Purpose: The ACTPCMD provides advice and recommendations on a broad range of issues relating to grant programs authorized by sections 222 and 749 of the Public Health Service Act, as amended by section 5103(d) and re-designated by section 5303 of the Patient Protection and Affordable Care Act of 2010.

At this meeting the ACTPCMD will review the latest draft of their 11th Report to Congress. The members will also receive presentations from experts on the subject of integrating oral health into primary care and on health literacy. The ACTPCMD's reports are submitted to the Secretary of the Department of Health and Human Services; the Committee on Health, Education, Labor, and Pensions of the Senate; and the Committee on Energy and Commerce of the House of Representatives.

Agenda: The webinar meeting on Thursday, August 29, 2013, will begin with opening comments from HRSA senior officials. The ACTPCMD agenda includes an overview of the Committee's general business activities, presentations by and dialogue with experts, and discussions pertinent to work related to their upcoming 11th report.

The official agenda will be available two days prior to the meeting on the HRSA Web site (http://www.hrsa.gov/advisorycommittees/bhpradvisory/actpcmd/index.html). Agenda items are subject to change as priorities dictate.

SUPPLEMENTARY INFORMATION:

Information on accessing the webinar will be available via the following Web site two days prior to the meeting date: http://www.hrsa.gov/advisorycommittees/bhpradvisory/actpcmd/index.html. The audio portion of the meeting will be computer-based. Therefore anyone wishing to make a public comment should use the Question & Answer Pod anytime during the meeting. The questions will be collected and as many as possible will be addressed during the time provided at the end of the meeting. Anyone wishing further information on the webinar aspects of the meeting should contact Iwona Grodecki at (301) 443-8379.

FOR FURTHER INFORMATION CONTACT: Anyone requesting information regarding the ACTPCMD should contact Mr. Shane Rogers, Designated Federal Official within the Bureau of Health Professions, Health Resources and Services Administration, in any one of the following three ways: (1) Send a request to the following address: Shane Rogers, Designated Federal Official, Bureau of Health Professions, Health Resources and Services Administration, Parklawn Building, Room 9A-27, 5600 Fishers Lane, Rockville, Maryland 20857; (2) call (301) 443-5260; or (3) send an email to srogers@hrsa.gov.

Dated: August 1, 2013.
Bahar Niakan,
Director, Division of Policy and Information Coordination.

[FR Doc. 2013-19115 Filed 8-7-13; 8:45 am]

BILLING CODE 4165-15-P